DEPARTMENT OF VETERANS AFFAIRS

[OMB Control No. 2900-0342]

Agency Information Collection Activity: Application and Training Agreement for Apprenticeship and On-the-Job Training Programs

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before January 5, 2024.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0342” in any correspondence. During the comment period, comments may be viewed online through FDMS.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0342” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 10 U.S.C. 16131(d), 16136, and section 510 of chapter 31, 38 U.S.C. 3034(a)(1), 3241(a)(1), 3323(a), 3534(a), 3671, 3672, 3687(a), 38 CFR 21.4150(c), 21.4261(b) and (c), 21.5250(a), 21.7220(a), 21.7720, and Section 903 of Public Law 96-342.

Title: Application and Training Agreement for Apprenticeship and On-the-Job Training Programs, VA Forms 22-8864 and 22-8865.

OMB Control Number: 2900-0342.

Type of Review: Revision of a currently approved collection.

Abstract: The Training Agreement, VA Form 22-8864 is no longer being submitted to VA, therefore it no longer needs an OMB approval. VA mostly requires employers with OJT or Apprenticeship programs approved for VA benefits to provide a training agreement to prospective Veterans using VA benefits while training with their company. The 22-8864 has always been an option for these employers to use if they didn't have their own training agreement or use one from their state department of labor. Employers used to submit a copy of the VA Form 22-8864 or their own as a condition of the Veteran receiving VA benefits. The employer is still required to provide a training agreement to their trainees, but VA no longer collects it as a condition of paying EDU benefits.

The Employer's Application to Provide Job Training, VA Form 22-8865 (or the equivalent tool provided by the SAAs) is used to ensure that training programs meet the statutory and regulatory requirements for approval.

Affected Public: Individuals and Households.

Estimated Annual Burden: 1,710 hours.

Estimated Average Burden Time per Respondent: 90 minutes.

Frequency of Response: Once.

Estimated Number of Respondents: 1,140.

By direction of the Secretary:
Maribel Aponte,
VA PRA Clearance Officer, Office of Enterprise and Integration/Data Governance Analytics, Department of Veterans Affairs.

[FR Doc. 2023-24443 Filed 11-3-23; 8:45 am]

BILLING CODE 8320-01-P